COMMISSION ON CIVIL RIGHTS

Notice of Public Meeting of the Ohio Advisory Committee; Revision

AGENCY: Commission on Civil Rights.

ACTION: Notice; revision of briefing time for August 19.

SUMMARY: The Commission on Civil Rights published a notice in the Federal Register on Friday, July 11, 2025, concerning a panel briefing of the Ohio Advisory Committee. For this August 19th briefing, the meeting time has been revised to 1:30 p.m. Eastern Time from the original time of 12:00 p.m. Eastern Time.

FOR FURTHER INFORMATION CONTACT: Mallory Trachtenberg, mtrachtenberg@usccr.gov or 1-202-809-9618.

Revision: In the Federal Register on Friday, July 11, 2025, in FR Document Number 2025-12929, on pages 30840, in the second and third columns, correct the meeting time to: Tuesday, August 19, 2025, from 1:30 p.m.-2:30 p.m. Eastern Time.

Dated: July 22, 2025.
David Mussatt,
Supervisory Chief, Regional Programs Unit.

[FR Doc. 2025-13949 Filed 7-23-25; 8:45 am]

BILLING CODE P